DEPARTMENT OF THE INTERIOR

Bureau of Land Management

[CO200-LLCOF00000-L16520000-XX0000]

Notice of Intent To Establish and Call for Nominations for the Rio Grande Natural Area Commission, Colorado

AGENCY: Bureau of Land Management, Interior.

ACTION: Notice.

SUMMARY: The BLM is publishing this notice in accordance with the Federal Land Policy and Management Act (FLPMA) and the Federal Advisory Committee Act (FACA). The Bureau of Land Management (BLM) gives notice that the Secretary of the Interior (Secretary) is establishing the Rio Grande Natural Area Commission (Commission) in the State of Colorado. This notice is also to solicit public nominations for the Commission. The Commission will advise the Secretary with respect to the Rio Grande Natural Area (Natural Area) and prepare a management plan relating to non-Federal land in the Natural Area.

DATES: All nominations must be received no later than July 12, 2010.

ADDRESSES: See SUPPLEMENTARY INFORMATION for the address of the BLM Colorado Office accepting nominations.

FOR FURTHER INFORMATION CONTACT: James Sample, Public Information Officer, Colorado State Office, Bureau of Land Management, 2850 Youngfield Street, Lakewood, Colorado 80215, telephone (303) 239-3861; or e-mail James_Sample@blm.gov.

SUPPLEMENTARY INFORMATION: The Commission is a statutory advisory committee established under Section 4 of the Rio Grande Natural Area Act (Act) of 2006 (16 U.S.C. 460rrr-2). The Commission shall be composed of nine members appointed by the Secretary, of whom:

• One member shall represent the Colorado State Director of the BLM;

• One member shall be the manager of the Alamosa National Wildlife Refuge, ex officio;

• Three members shall be appointed based on the recommendation of the Governor of Colorado, among whom:

• One member shall represent the Colorado Division of Wildlife;

• One member shall represent the Colorado Division of Water Resources; and

• One member shall represent the Rio Grande Water Conservation District.

• Four members shall:

• Represent the general public;

• Be citizens of the local region in which the Natural Area is established; and

• Have knowledge and experience in fields of interest relating to the preservation, restoration, and use of the Natural Area.

Individuals may nominate themselves or others. The BLM will evaluate nominees based on their education, training, experience, and knowledge of the geographical area the Commission serves. Nominees should demonstrate a commitment to collaborative resource decision-making. The Obama Administration prohibits individuals who are currently federally registered lobbyists to serve on all FACA and non-FACA boards, committees, or councils. The following must accompany all nominations:

—Letters of reference from represented interests or organizations;

—A completed background information nomination form; and

—Any other information that addresses the nominee's qualifications.

Simultaneous with this notice, the San Luis Valley Public Lands Center will issue press releases providing additional information for submitting nominations. Nominations for the Commission should be sent to: Harold Dyer, Environmental Coordinator, Public Lands Center, Rio Grande National Forest, 1803 West Highway 160, Monte Vista, Colorado 81140, (719) 852-6215.

Certification Statement: I hereby certify that the BLM Rio Grande Natural Area Commission is necessary and in the public interest in connection with the Secretary's responsibilities to manage the lands, resources, and facilities administered by the BLM.

Dated: June 4, 2010.
Ken Salazar,
Secretary.

[FR Doc. 2010-14091 Filed 6-10-10; 8:45 am]

BILLING CODE 4310-JB-P